DEPARTMENT OF HEALTH AND HUMAN SERVICES

Administration for Children and Families

Grant to the University of Maryland, Baltimore County

AGENCY: Office of Planning, Research and Evaluation, Administration for Children and Families, Department of Health and Human Services.

ACTION: Award announcement.

SUMMARY: Notice is hereby given that a noncompetitive grant award is being made to the University of Maryland, Baltimore County, to use data from previous evaluations of welfare-to-work programs to determine how these programs can be made more efficient. The University of Maryland, Baltimore County, is uniquely qualified to conduct this study, because its database presently contains detailed information on 24 welfare-to-work programs conducted in over 50 sites. The project described in the proposal would build on this database for the current research.

This 17-month project is being funded noncompetitively. The University has several facilities and resources on campus for undertaking the study. The University also will rely upon several outside sources with specialized expertise to conduct various activities related to the project. The cost of this 17-month project is $248,541.

FOR FURTHER INFORMATION CONTACT: Leonard Sternback, Administration for Children and Families, 50 U.N. Plaza, San Francisco, California 94102, Phone: 415-437-7671.

Dated: July 2, 2002.
Howard Rolston,
Director, Office of Planning, Research and Evaluation.

[FR Doc. 02-17705 Filed 7-12-02; 8:45 am]

BILLING CODE 4184-01-M